DEPARTMENT OF ENERGY

Federal Energy Regulatory Commission

[Docket No. RP04-225-001]

Columbia Gas Transmission Corporation; Notice of Compliance Filing

May 13, 2004.

Take notice that on May 7, 2004, Columbia Gas Transmission Corporation (Columbia) tendered for filing as part of its FERC Gas Tariff, Second Revised Volume No. 1, Twelfth Revised Sheet No. 281, a proposed effective date of April 22, 2004.

Columbia states that on March 23, 2004, it filed a revised tariff sheet regarding its right of first refusal provisions. On April 22, 2004, the Commission accepted Columbia's proposed revised tariff sheet subject to Columbia making certain tariff sheet revisions.

Columbia states that copies of its filing have been mailed to all firm customers, interruptible customers, and affected State commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1196 Filed 5-20-04; 8:45 am]

BILLING CODE 6717-01-P